DEPARTMENT OF COMMERCE

International Trade Administration

[A-484-801] [A-588-806]

Revocation of Antidumping Duty Orders: Electrolytic Manganese Dioxide From Greece and Japan

AGENCY: Import Administration, International Trade Administration, Department of Commerce.

ACTION: Notice of revocation of Antidumping Duty Orders: Electrolytic manganese dioxide from Greece and Japan.

SUMMARY: Pursuant to section 751(c) of the Tariff Act of 1930, as amended (“the Act”), the United States International Trade Commission (“the Commission”) determined that revocation of the antidumping duty orders on electrolytic manganese dioxide from Greece and Japan are not likely to lead to continuation or recurrence of material injury to an industry in the United States within a reasonably foreseeable time (65 FR 31348 (May 17, 2000)). Therefore, pursuant to section 751(d)(2) of the Act and 19 CFR 351.222(i)(1), the Department of Commerce (“the Department”) is revoking the antidumping duty orders on electrolytic manganese dioxide from Greece and Japan. Pursuant to section 751(c)(6)(A)(iv) of the Act and 19 CFR 351.222(i)(2)(ii), the effective date of revocation is January 1, 2000.

EFFECTIVE DATE: January 1, 2000.

FOR FURTHER INFORMATION CONTACT: Eun W. Cho or Carole Showers, Office of Policy for Import Administration, International Trade Administration, U.S. Department of Commerce, 14th Street and Constitution Ave., NW, Washington, D.C. 20230; telephone: (202) 482-1698 or (202) 482-3217, respectively.

Background

On May 3, 1999, the Department initiated, and the Commission instituted, sunset reviews (64 FR 23596 and 64 FR 23675, respectively) of the antidumping duty orders on electrolytic manganese dioxide from Greece and Japan, pursuant to section 751(c) of the Act. As a result of the reviews, the Department found that revocation of the antidumping duty orders would be likely to lead to continuation or recurrence of dumping and notified the Commission of the magnitude of the margins likely to prevail were the antidumping orders revoked.¹

¹ See Final Results of Expedited Sunset Review: Electrolytic Manganese Dioxide From Greece, 64 FR 67861(December 3, 1999); and Final Results of Expedited Sunset Review: Electrolytic Manganese Dioxide From Japan, 64 FR 67858 (December 3, 1999).

On May 17, 2000, the Commission determined, pursuant to section 751(c) of the Act, that revocation of the antidumping duty orders on electrolytic manganese dioxide from Greece and Japan would not likely lead to continuation or recurrence of material injury to an industry in the United States within a reasonably foreseeable time. (See Electrolytic Manganese Dioxide from Greece and Japan, 65 FR 31348 (May 17, 2000) and USITC Publication 3296, Investigations Nos. 731-TA-406 and 408 (Review) (May 2000).)

Scope

Imports covered by these orders are electrolytic manganese dioxide (“EMD”) from Greece and Japan. EMD is manganese dioxide (MnO sub2) that has been refined in an electrolysis process. The subject merchandiseis an intermediate product used in the production of dry-cell batteries. EMD is sold in three physical forms, powder, chip, or plate, and two grades, alkaline and zinc chloride. EMD in all three forms and both grades is included in the scope of the order.² This merchandise is currently classifiable under the Harmonized Tariff Schedule (“HTS”) item number 2820.10.0000. The HTS item number is provided for convenience and customs purposes. The written description remains dispositive.

² There has been one scope clarification with regard to EMD from Japan. On January 6, 1992, the Department ruled that high-grade chemical manganese dioxide (CMD-U) is within the scope of the order. See Electrolytic Manganese Dioxide from Japan; Final Scope Ruling, 57 FR 395 (January 6, 1992).

Determination

As a result of the determination by the Commission that revocation of these antidumping duty orders is not likely to lead to continuation or recurrence of material injury to an industry in the United States, the Department, pursuant to section 751(d)(2) of the Act and 19 CFR 351.222(i)(1), is revoking the antidumping duty orders on electrolytic manganese dioxide from Greece and Japan. Pursuant to section 751(c)(6)(A)(iv) of the Act and 19 CFR 351.222(i)(2)(ii), this revocation is effective on January 1, 2000.

The Department will instruct the U.S. Customs Service to discontinue the suspension of liquidation and collection of cash deposits rate and to refund with interest any cash deposits on entries of the subject merchandise entered or withdrawn from warehouse on or after January 1, 2000 (the effective date). The Department will complete any pending administrative reviews of these orders and will conduct administrative reviews of subject merchandise entered prior to the effective date of revocation in response to appropriately filed requests for review.

Dated: May 24, 2000.
Troy H. Cribb,
Acting Assistant Secretary for Import Administration.

[FR Doc. 00-13583 Filed 5-30-00; 8:45 am]

BILLING CODE 3510-DS-P